DEPARTMENT OF HEALTH AND HUMAN SERVICES

National Institutes of Health

Prospective Grant of Exclusive License: Aminoflavone Compounds as Anti-Cancer Agents

AGENCY: National Institutes of Health, Public Health Service, HHS.

ACTION: Notice.

SUMMARY: This is notice, in accordance with 35 U.S.C. 209(c)(1) and 37 CFR 404.7(a)(1)(i), that the National Institutes of Health, Department of Health and Human Services, is contemplating the grant of an exclusive patent license to practice the inventions embodied in the

(1) U.S. Provisional Patent Application 60/195,507, filed April 6, 2000, entitled “Aminoflavone Compounds, Compositions, and Methods of Use Thereof” and all related foreign patents/patent applications (HHS Ref. No. E-279-1999/0);

(2) U.S. Patent Application 08/014,696, filed February 8, 1993, entitled “5-Aminoflavone Derivatives” and all related foreign patents/patent applications (HHS Ref. No. E-296-2005/1);

(3) PCT Patent Application PCT/US96/00181, filed August 10, 1994, entitled “5-Aminoflavone Derivatives, Their Preparation and Their Use as Antibacterial, Anti-estrogenic and/or Antitumor Agent” and all related foreign patents/patent applications (HHS Ref. No. E-295-2005/0), with the exception of the JP patent application JP204356/93, filed on August 18, 1993;

to Tigris Pharmaceuticals, Inc. located in New York, NY. The patent rights in these inventions have been assigned to the United States of America.

The prospective exclusive license territory may be worldwide and the field of use may be limited to human pharmaceutical uses of aminoflavone compounds as anti-cancer agents.

DATES: Only written comments and/or license applications which are received by the National Institutes of Health on or before April 10, 2006 will be considered.

ADDRESSES: Requests for copies of the patent, inquiries, comments and other materials relating to the contemplated exclusive license should be directed to: George G. Pipia, PhD., Technology Licensing Specialist, Office of Technology Transfer, National Institutes of Health, 6011 Executive Boulevard, Suite 325, Rockville, MD 20852-3804; Telephone: (301) 435-5560; Facsimile: (301) 402-0220; E-mail: pipiag@mail.nih.gov.

SUPPLEMENTARY INFORMATION: The prospective exclusive license will be royalty bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Description of the Technology

E-279-1999/0: This invention is related to aminoflavone compounds with pharmaceutically acceptable properties, claiming pharmaceutical compositions and a method of inhibiting tumor growth. The invention improves the pharmaceutical property of aminoflavone compounds. The present invention addresses these problems by providing a method of producing water-soluble analogues of water-insoluble drugs. In particular, the present invention describes novel analogues derived from 5-aminoflavone (TK2339) compounds. These derivatives have shown good differential activity in the NCI 60-cell line in vitro cancer drug screen with potent and selective cytotoxicity against CAKI-1 and A498 renal, MCF-7 breast, and OVCAR-5 ovarian carcinoma cell lines. In addition, these derivatives have shown in vivo activity against CAKI-1 and A498 renal carcinoma xenographs.

The novel compounds display improved solubility in aqueous solutions over the parent compounds (see below) without sacrificing potent antitumor activity. Since these compounds possess very favorable pharmaceutical properties, they have greater potential to be useful in the treatment of human cancers. The claims of the issued patent or pending patent applications of this patent family are directed to compositions comprising aminoflavone derivatives and to methods of their use.

E-296-2005/0 and E-296-2005/1: These two inventions describe 5-aminoflavone derivatives, having antibacterial, anti-estrogenic and anti-cancer activity. These inventions constitute earlier, parent 5-aminoflavone compounds, which have inferior solubility in aqueous solutions compared to new compounds outlined in E-279-1999/0 technology.

Applications for a license in the field of use filed in response to this notice will be treated as objections to the grant of the contemplated exclusive license. Comments and objections submitted to this notice will not be made available for public inspection and, to the extent permitted by law, will not be released under the Freedom of Information Act, 5 U.S.C. 552.

Dated: January 30, 2006.
Steven M. Ferguson,
Director, Division of Technology Development and Transfer, Office of Technology Transfer, National Institutes of Health.

[FR Doc. E6-1651 Filed 2-7-06; 8:45 am]

BILLING CODE 4140-01-P